DEPARTMENT OF COMMERCE

International Trade Administration

[C-428-848, C-533-894, C-475-841, C-570-116]

Forged Steel Fluid End Blocks From the Federal Republic of Germany, India, Italy and the People's Republic of China: Postponement of Preliminary Determination in the Countervailing Duty Investigations

AGENCY: Enforcement and Compliance, International Trade Administration, Department of Commerce.

DATES: Applicable February 27, 2020.

FOR FURTHER INFORMATION CONTACT: Bob Palmer or Joseph Dowling at (202) 482-9068 or (202) 482-1646 (Germany), Aimee Phelan or William Langley at (202) 482-0697 or (202) 482-3861 (India), Nicholas Czajkowski or Ethan Talbott at (202) 482-1395 or (202) 482-1030 (Italy), Janae Martin or Jaron Moore at (202) 482-0238 or (202) 482-3640 (China), AD/CVD Operations, Office I, Enforcement and Compliance, International Trade Administration, U.S. Department of Commerce, 1401 Constitution Avenue NW, Washington, DC 20230.

SUPPLEMENTARY INFORMATION:

Background

On January 8, 2020, the Department of Commerce (Commerce) initiated countervailing duty (CVD) investigations of imports of forged steel fluid end blocks from the Federal Republic of Germany, India, Italy, and the People's Republic of China.¹ Currently, the preliminary determinations are due no later than March 13, 2020.

¹ See Forged Steel Fluid End Blocks from Germany, India, Italy, and the People's Republic of China, 85 FR 2385 (January 15, 2020).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On February 10, 2020, the petitioners ² submitted a timely request that Commerce postpone the preliminary CVD determinations.³ The petitioners stated that they request postponement because, “[a]s currently scheduled, the deadlines for responding to Commerce's questionnaire fall almost in parallel with the scheduled preliminary determinations. Without extending the preliminary determinations, [p]etitioners would be unable to comment on the responses, and Commerce would be similarly unable to consider the responses.” ⁴ In accordance with 19 CFR 351.205(e), the petitioners have stated the reasons for requesting a postponement of the preliminary determinations, and Commerce finds no compelling reason to deny the request. Therefore, in accordance with section 703(c)(1)(A) of the Act, Commerce is postponing the deadline for the preliminary determinations to no later than 130 days after the date on which these investigations were initiated, i.e., May 18, 2020.⁵ Pursuant to section 705(a)(1) of the Act and 19 CFR 351.210(b)(1), the deadline for the final determinations of these investigations will continue to be 75 days after the date of the preliminary determinations.

² The petitioners are the FEB Fair Trade Coalition, Ellwood Group, and Finkl Steel.

³ See Petitioners' Letter, “Forged Steel Fluid End Blocks from China, Germany, India, and Italy: Request to Extend Preliminary Results,” dated February 10, 2020.

⁴ Id.

⁵ Postponing the preliminary determination to 130 days after initiation would place the deadline on Sunday, May 17, 2020. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

Notification to Interested Parties

This notice is issued and published pursuant to section 703(c)(2) of the Act and 19 CFR 351.205(f)(1).

Dated: February 21, 2020.
Jeffrey I. Kessler,
Assistant Secretary for Enforcement and Compliance.

[FR Doc. 2020-04002 Filed 2-26-20; 8:45 am]

BILLING CODE 3510-DS-P